DEPARTMENT OF ENERGY

Federal Energy Regulatory Commission

[Docket No. EL15-40-000]

Public Service Electric and Gas Company v. PJM Interconnection, LLC; Notice of Complaint

Take notice that on January 29, 2015, pursuant to section 206 of the Federal Power Act, 16 U.S.C. 824(e) and Rule 206 of the Federal Energy Regulatory Commission's (Commission) Rules of Practice and Procedure, 18 CFR 385.206, Public Service Electric and Gas Company (Complainant or PSE&G), filed a formal complaint against PJM Interconnection, LLC (Respondent or PJM), alleging that PJM violated PSE&G rules governing competitive transmission solicitations to resolve operational performance issues at Artificial Island.¹ PSE&G requests that the Commission order PJM to comply with its rules in this and all future transmission solicitations under Order No. 1000.²

¹ “Artificial Island” refers to the transmission and generation infrastructure associated with the second largest nuclear complex in the United States, including the Salem 1 and 2 and Hope Creek nuclear generating units that have a total generating capacity of 3818 MW.

² Transmission Planning and Cost Allocation by Transmission Owning and Operating Pub. Utils., Order No. 1000, FERC Stats. & Regs. ¶ 31,323 (2011), order on reh'g, Order No. 1000-A, 139 FERC ¶ 61,132, order on reh'g and clarification, Order No. 1000-B, 141 FERC ¶ 61,044 (2012), affirmed sub. nom. S.C. Pub. Serv. Auth. v. FERC, 762 F.3d 41 (D.C. Cir. 2014).

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 18, 2015.

Dated: January 29, 2015.
Kimberly D. Bose,
Secretary.

[FR Doc. 2015-02294 Filed 2-4-15; 8:45 am]

BILLING CODE 6717-01-P